NATIONAL AERONAUTICS AND SPACE ADMINISTRATION

[Notice: (15-013)]

NASA Advisory Council; Human Exploration and Operations Committee; Meeting

AGENCY: National Aeronautics and Space Administration.

ACTION: Notice of meeting.

SUMMARY: In accordance with the Federal Advisory Committee Act, Pub. L. 92-463, as amended, the National Aeronautics and Space Administration (NASA) announces a meeting of the Human Exploration and Operations Committee of the NASA Advisory Council (NAC). This Committee reports to the NAC.

DATES: Tuesday, April 7, 2015, 10:00 a.m. to 5:30 p.m.; and Wednesday, April 8, 2015, 8:30 a.m. to 5:30 p.m., Local Time.

ADDRESSES: NASA Headquarters, MIC 5A (Room 5H41-A), 300 E Street SW., Washington, DC 20546 (April 7; 10:00 a.m. to 12:00 p.m. and April 8; 10:30 a.m. to 5:30 p.m.) and NASA Headquarters, MIC 3A (Room 3H42), 300 E Street, SW., Washington, DC 20546 (April 7; 1:00 p.m. to 5:30 p.m. and April 8; 8:30 a.m. to 10:00 a.m.).

FOR FURTHER INFORMATION CONTACT: Dr. Bette Siegel, Human Exploration and Operations Mission Directorate, NASA Headquarters, Washington, DC 20546, (202) 358-2245, or bette.siegel@nasa.gov.

SUPPLEMENTARY INFORMATION: The meeting will be open to the public up to the seating capacity of the room. This meeting is also available telephonically and by WebEx. You must use a touch tone phone to participate in this meeting. On April 7, from 10:00 a.m. to 12:00 p.m. and April 8, from 10:30 a.m. to 5:30 p.m., any interested person may dial the toll free access number 1-800-369-1125 or toll access number 1-630-395-0211, and then the numeric participant passcode: 6124012, to participate in this meeting by telephone. The WebEx link is https://nasa.webex.com/, the meeting number is 996 887 256, and the password is Exploration@2015 (case sensitive). On April 7, from 1:00 p.m. to 5:30 p.m. and April 8, from 8:30 a.m. to 10:00 a.m., any interested person may dial the toll free access number 1-800-988-9663 or toll access number 1-517-308-9483, and then the numeric participant passcode: 8015, to participate in this meeting by telephone. The WebEx link is https://nasa.webex.com/, the meeting number is 999 655 441, and the password is Science@Apr2015 (case sensitive).

The agenda for the meeting includes the following topics:

—Joint Session with Science Committee of the NASA Advisory Council

—Radiation Environment and Countermeasures for Human Exploration to Mars

—Status of the NASA Human Exploration and Operations Mission Directorate

—FY2016 President's Budget Request

—Status of Commercial Crew Program

—Status of the International Space Station

—Asteroid Redirect Mission

—Evolvable Mars Campaign

Attendees will be required to sign a register and comply with NASA security requirements, including the presentation of a valid picture ID before receiving access to NASA Headquarters. Due to the Real ID Act, Public Law 109-13, any attendees with drivers licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Arizona, Idaho, Louisiana, Maine, Minnesota, New Hampshire, and New York. Foreign nationals attending this meeting will be required to provide a copy of their passport and visa in addition to providing the following information no less than 10 days prior to the meeting: Full name; home address; gender; citizenship; date/city/country of birth; title, position or duties; visa information (number, type, expiration date); passport information (number, country, expiration date); employer/affiliation information (name of institution, address, country, telephone) of the position of attendee; and home address to Dr. Bette Siegel via email at bette.siegel@nasa.gov. To expedite admittance, U.S. citizens and Permanent Residents (green card holders) can submit identifying information 3 working days prior to the meeting to Dr. Bette Siegel via email at bette.siegel@nasa.gov. It is imperative that the meeting be held on this date to accommodate the scheduling priorities of the key participants.

Harmony R. Myers,
Acting Advisory Committee Management Officer, National Aeronautics and Space Administration.

[FR Doc. 2015-06060 Filed 3-16-15; 8:45 am]

BILLING CODE 7510-13-P